DEPARTMENT OF COMMERCE

International Trade Administration

[A-122-857]

Certain Softwood Lumber Products From Canada: Final Results of Antidumping Duty Administrative Review, Partial Rescission of Administrative Review, and Final Determination of No Shipments; 2023

AGENCY: Enforcement and Compliance, International Trade Administration, Department of Commerce.

SUMMARY: The U.S. Department of Commerce (Commerce) determines that producers and/or exporters subject to this administrative review sold subject merchandise at less than normal value during the period of review (POR), January 1, 2023, through December 31, 2023.

DATES: Applicable July 29, 2025.

FOR FURTHER INFORMATION CONTACT: Thomas Martin or Joshua Jacobson, Office IV, Enforcement and Compliance, International Trade Administration, U.S. Department of Commerce, 1401 Constitution Avenue NW, Washington, DC 20230; telephone: (202) 482-3936 or (202) 482-0266, respectively.

SUPPLEMENTARY INFORMATION:

Background

Commerce published the Preliminary Results on March 5, 2025.¹ This review covers 261 producers/exporters of subject merchandise, including two mandatory respondents, Canfor and West Fraser (collectively, the mandatory respondents).² The final weighted-average dumping margins are listed below in the “Final Results of Review” section of this notice. Commerce conducted this administrative review in accordance with section 751(a) of the Tariff Act of 1930, as amended (the Act). For a detailed description of the events that occurred since the Preliminary Results, see the Issues and Decision Memorandum.³

¹ See Certain Softwood Lumber Products from Canada: Preliminary Results of Antidumping Duty Administrative Review; 2023, 90 FR 11259 (March 5, 2025) (Preliminary Results), and accompanying Preliminary Decision Memorandum (PDM).

² As described in the Preliminary Results PDM, we have treated West Fraser Mills Ltd., Blue Ridge Lumber Inc., Manning Forest Products Ltd., and Sundre Forest Products Inc. (collectively, West Fraser) and we have treated Canfor Corporation, Canadian Forest Products Ltd., and Canfor Wood Products Marketing Ltd., Canfor Fox Creek Ltd. and Canfor Whitecourt Ltd. (collectively, Canfor) as single entities. See Preliminary Results PDM at 5-6.

³ See Memorandum, “Issues and Decision Memorandum for the Final Results of the 2023 Administrative Review of the Antidumping Duty Order on Certain Softwood Lumber Products from Canada,” dated concurrently with, and hereby adopted by, this notice (Issues and Decision Memorandum).

Scope of the Order

The merchandise covered by this review is certain softwood lumber products from Canada. For a full description of the scope, see the Issues and Decision Memorandum.

Partial Rescission of Administrative Review

Pursuant to 19 CFR 351.213(d)(1), Commerce will rescind an administrative review, in whole or in part, if the party that requested a review withdraws its request within 90 days of the date of publication of the notice of initiation. All requests for an administrative review of Smartlam LLC were timely withdrawn within 90 days of the publication of the initiation notice for this review.⁴ As a result, Commerce is rescinding this review with respect to Smartlam LLC in accordance with 19 CFR 351.213(d)(1).⁵

⁴ See Petitioner's Letter, “Partial Withdrawal of Request for Administrative Review,” dated May 17, 2023.

⁵ Appendix III identifies all companies for which we have rescinded this review.

Additionally, pursuant to 19 CFR 351.213(d)(3), Commerce will rescind an administrative review when there are no entries of subject merchandise during the POR for which liquidation is suspended. Normally, upon completion of an administrative review, the suspended entries are liquidated at the antidumping duty (AD) assessment rate calculated for the review period.⁶ Therefore, for an administrative review of a company to be conducted, there must be a suspended entry that Commerce can instruct and U.S. Customs and Border Protection (CBP) to liquidate at the AD assessment rate calculated for the POR.⁷ In the absence of any suspended entries of subject merchandise from 53 companies that were initiated upon, we are rescinding the administrative review for these companies, in accordance with 19 CFR 351.213(d)(3). For a list of the companies for which we are rescinding this review, see Appendix III.

⁶ See 19 CFR 351.212(b)(1).

⁷ See, e.g., Shanghai Sunbeauty Trading Co. v. United States, 380 F. Supp. 3d 1328, 1335-36 (CIT 2019), at 12 (referring to section 751(a) of the Act, the U.S. Court of International Trade held that: “While the statute does not explicitly require that an entry be suspended as a prerequisite for establishing entitlement to a review, it does explicitly state the determined rate will be used as the liquidation rate for the reviewed entries. This result can only obtain if the liquidation of entries has been suspended . . .”; see also Certain Frozen Fish Fillets from the Socialist Republic of Vietnam: Final Results of Antidumping Duty Administrative Review and Final Determination of No Shipments; 2018-2019, 86 FR 36102, and accompanying Issues and Decision Memorandum at Comment 4; and Solid Fertilizer Grade Ammonium Nitrate from the Russian Federation: Notice of Rescission of Antidumping Duty Administrative Review, 77 FR 65532 (October 29, 2012) (noting that “for an administrative review to be conducted, there must be a reviewable, suspended entry to be liquidated at the newly calculated assessment rate”).

Analysis of Comments Received

All issues raised in the case briefs filed in this administrative review are addressed in the Issues and Decision Memorandum. A list of the topics discussed in the Issues and Decision Memorandum is included in Appendix I of this notice. The Issues and Decision Memorandum is a public document and is available electronically via Enforcement and Compliance's Antidumping and Countervailing Duty Centralized Electronic Services System (ACCESS). ACCESS is available to registered users at https://access.trade.gov. In addition, a complete version of the Issues and Decision Memorandum is also accessible on the internet at https://access.trade.gov/public/FRNoticesListLayout.aspx.

Changes Since the Preliminary Results

Based on our review of the record and comments received from interested parties, we rescinded this review with regard to 53 companies, as we stated was our intent in a memorandum.⁸ In addition, we revised the names of certain respondents as identified in the Preliminary Results, and made certain changes to the dumping margin calculations for both the mandatory respondents. For a discussion of these changes, see the Issues and Decision Memorandum.

⁸ See Memorandum, “Correction to List of Companies Under Review and Notice of Intent to Rescind Review, In Part,” dated July 9, 2025.

Rate for Non-Selected Companies

Generally, when calculating margins for non-selected respondents, Commerce looks to section 735(c)(5) of the Act for guidance, which provides instructions for calculating the all-others rate in an investigation. Section 735(c)(5)(A) of the Act provides that when calculating the all-others rate, Commerce will exclude any zero and de minimis weighted-average dumping margins, as well as any weighted-average dumping margins based entirely on facts available. Accordingly, Commerce's usual practice has been to average the margins for selected respondents, excluding margins that are zero, de minimis, or based entirely on facts available.

In this review, we calculated a weighted-average dumping margin of 35.53 percent for Canfor and 9.65 percent for West Fraser. In accordance with section 735(c)(5)(A) of the Act, Commerce calculated the weighted-average, based on the mandatory respondents' publicly ranged sales data, of the mandatory respondents' calculated weighted-average dumping margins and assigned this rate to the non-selected companies in these final results.⁹ Accordingly, we have applied a rate of 20.56 percent to the non-selected companies.¹⁰ A list of all non-selected companies is included in Appendix II.

⁹ See Memorandum, “Calculation of the Rate for Non-Selected Respondents,” dated concurrently with this notice. A list of the non-selected companies under review is included as Appendix II.

¹⁰ Id.

Final Results of Review

As a result of this administrative review, we are assigning the following weighted-average dumping margins to the manufacturers/exporters listed below for the POR, January 1, 2023, through December 31, 2023:

Exporter/producer | Weighted-average dumping margin (percent)
Canfor Corporation/Canadian Forest Products Ltd./Canfor Wood Products Marketing Ltd./Canfor Fox Creek Ltd./Canfor Whitecourt Ltd | 35.53
West Fraser Mills Ltd./Blue Ridge Lumber Inc./Manning Forest Products Ltd./Sundre Forest Products Inc | 9.65
Non-Selected Companies ¹¹ | 20.56

Assessment Rates

Pursuant to section 751(a)(2)(C) of the Act and 19 CFR 351.212(b)(1), Commerce shall determine, and CBP shall assess, antidumping duties on all appropriate entries of subject merchandise covered by this review.

¹¹ See Appendix II of this notice for a list of the non-selected respondent companies.

We calculated importer- (or customer-) specific assessment rates on the basis of the ratio of the total amount of antidumping duties calculated for each importer's (or customer's) examined sales and the total entered value of the sales in accordance with 19 CFR 351.212(b)(1). Where an importer- (or customer-) specific rate is zero or de minimis within the meaning of 19 CFR 351.106(c)(1), we will instruct CBP to liquidate the appropriate entries without regard to antidumping duties.

Commerce's “reseller policy” will apply to entries of subject merchandise during the POR produced by companies included in these final results of review for which the reviewed companies did not know that the merchandise they sold to the intermediary (e.g., a reseller, trading company, or exporter) was destined for the United States. In such instances, we will instruct CBP to liquidate unreviewed entries at the all-others rate if there is no rate for the intermediate company(ies) involved in the transaction.¹²

¹² For a full discussion of this practice, see Antidumping and Countervailing Duty Proceedings: Assessment of Antidumping Duties, 68 FR 23954 (May 6, 2003).

For all non-selected companies listed in Appendix II, we will instruct CBP to liquidate all entries of subject merchandise that entered the United States during the POR at the average of the rates calculated for Canfor and West Fraser as listed above.

For the companies/entities listed in Appendix III, for which we are rescinding this administrative review, Commerce will instruct CBP to assess antidumping duties on all appropriate entries at a rate equal to the cash deposit of estimated antidumping duties required at the time of entry, or withdrawal from warehouse, for consumption, during the period January 1, 2023, through December 31, 2023, in accordance with 19 CFR 351.212(c)(1)(ii).

The final results of this administrative review shall be the basis for the assessment of antidumping duties on entries of merchandise under review and for future cash deposits of estimated duties, where applicable. Commerce intends to issue assessment instructions to CBP no earlier than 41 days after the date of publication of the final results of this review in the Federal Register, in accordance with 19 CFR 356.8(a).

Cash Deposit Requirements

The following cash deposit requirements will be effective for all shipments of subject merchandise entered, or withdrawn from warehouse, for consumption on or after the publication date of these final results, as provided by section 751(a)(2)(C) of the Act: (1) the cash deposit rate for the companies under review will be equal to the weighted-average dumping margin listed above in the “Final Results of Review” section; (2) for merchandise exported by producers or exporters not covered in this review but covered in a previously completed segment of this proceeding, the cash deposit rate will continue to be the company-specific rate published in the final results for the most recent period in which that producer or exporter participated; (3) if the exporter is not a firm covered in this review or in any previous segment of this proceeding, but the producer is, then the cash deposit rate will be that established for the producer of the merchandise in these final results of review or in the final results for the most recent period in which that producer participated; and (4) if neither the exporter nor the producer is a firm covered in this review or in any previously completed segment of this proceeding, then the cash deposit rate will continue to be 6.04 percent ad valorem, the all-others rate established in the original less than fair value investigation.¹³ These cash deposit requirements, when imposed, shall remain in effect until further notice.

¹³ See Certain Softwood Lumber Products from Canada: Final Affirmative Determination of Sales at Less Than Fair Value and Affirmative Final Determination of Critical Circumstances, 82 FR 51806 (November 8, 2017).

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of doubled antidumping duties, and/or an increase in the amount of antidumping duties by the amount of countervailing duties.

Administrative Protective Order (APO)

This notice is the only reminder to parties subject to an APO of their responsibility concerning the return or destruction of proprietary information disclosed under the APO in accordance with 19 CFR 351.305(a)(3), which continues to govern business proprietary information in this segment of the proceeding. Timely written notification of the return or destruction of APO materials, or conversion to judicial protective order, is hereby requested. Failure to comply with the regulations and the terms of an APO is a violation subject to sanction.

Notification to Interested Parties

We are issuing and publishing these final results and this notice in accordance with sections 751(a)(1) and 777(i)(1) of the Act, and 19 CFR 351.213(h).

Dated: July 24, 2025.
Christopher Abbott,
Deputy Assistant Secretary for Policy and Negotiations, performing the non-exclusive functions and duties of the Assistant Secretary for Enforcement and Compliance.

Appendix I

List of Topics Discussed in the Issues and Decision Memorandum

I. Summary

II. Background

III. Scope of the Order

IV. Changes Since the Preliminary Results

V. Differential Pricing Analysis

VI. Discussion of the Issues

Comment 1: Whether Commerce Should Apply Adverse Facts Available (AFA) to West Fraser's Affiliated Log Purchases

Comment 2: Whether Commerce Should Correct Its Cost of Manufacturing (COM) Adjustment for West Fraser's Purchases of Logs from Affiliated Suppliers.

Comment 3: Whether Commerce Should Further Revise Canfor's Byproduct Offset Calculation

Comment 4: Whether Commerce Should Correct Its Adjustment to Canfor's COM Based on the `Swap' Transactions Between the Grande Prairie Sawmill and Canfor Green Energy

Comment 5: Whether Commerce Should Revise Its Determination Regarding Canfor's Alleged Purchase of Electricity from Canfor Pulp Products Inc. (CPPI) at the Northwood Facility

Comment 6: Whether Commerce Should Adjust Canfor's General and Administrative (G&A) Expenses Regarding Costs Related to Certain Mill Closures

Comment 7: Whether Commerce Should Make Adjustments to the Price Used to Establish Export Price (EP) and Constructed Export Price (CEP)

Comment 8: Whether Commerce Should Correct the List of Companies Under Review

Comment 9: Whether Commerce's Differential Pricing Methodology Is Unlawful

Comment 10: Whether Commerce Should Revise the Calculation of the Rate for Non-Selected Respondents

Comment 11: Whether Commerce Should Exclude Certain Selling Expenses from Canfor's G&A Expense Ratio

Comment 12: Whether Commerce Should Correct Its Byproduct Revenue Adjustment for West Fraser

VI. Recommendation

Appendix II

Non-Selected Exporters/Producers

1. 10104704 Manitoba Ltd. O/A Woodstock Forest Products

2. 1074712 BC Ltd.; Quadra Cedar

3. 5214875 Manitoba Ltd.

4. 54 Reman

5. 9224-5737 Quebec inc.; A.G. Bois

6. 0752615 B.C Ltd.; Fraserview Remanufacturing Inc.; Fraserview Cedar Products.

7. Absolute Lumber Products Ltd.

8. Adwood Manufacturing Ltd.

9. AJ Forest Products Ltd.

10. Aler Forest Products Ltd.

11. Alpa Lumber Mills Inc.

12. Andersen Pacific Forest Products Ltd.

13. Anglo American Cedar Products Ltd.; Anglo-American Cedar Products Ltd.

14. Antrim Cedar Corporation

15. Aquila Cedar Products Ltd.

16. Arbec Lumber Inc.; Arbec Bois Doeuvre Inc.

17. Aspen Pacific Industries Inc.

18. Aspen Planers Ltd.

19. B&L Forest Products Ltd.

20. B.B. Pallets Inc.; Les Palettes B.B. Inc.

21. Babine Forest Products Limited

22. Bakerview Forest Products Inc.

23. Barrette-Chapais Ltee

24. Barrette Wood Inc.

25. Benoît & Dionne Produits Forestiers Ltee; Benoît & Dionne Forest Products Ltd.

26. Blanchet Multi Concept Inc.

27. Blanchette & Blanchette Inc.

28. Bois Aise de Montreal Inc.

29. Bois Bonsaï Inc.

30. Bois Daaquam Inc.; Daaquam Lumber Inc.

31. Bois D'oeuvre Cedrico Inc.; Cedrico Lumber Inc.

32. Bois et Solutions Marketing SPEC, Inc.; SPEC Wood & Marketing Solution; SPEC Wood and Marketing Solutions Inc.

33. Bois Weedon Inc.

34. Boisaco Inc.

35. Boscus Canada Inc.

36. Boucher Bros. Lumber Ltd.

37. BP Wood Ltd.

38. Bramwood Forest Inc.

39. Brink Forest Products Ltd.

40. Brunswick Valley Lumber Inc.

41. Burrows Lumber (CD) Ltd., Theo A. Burrows Lumber Company Limited

42. Busque & Laflamme Inc.

43. Canadian Bavarian Millwork & Lumber Ltd.

44. Canasia Forest Industries Ltd.

45. Canyon Lumber Company Ltd.

46. Carrier & Begin Inc.

47. Carrier Forest Products Ltd.

48. Carrier Lumber Ltd.

49. Carter Forest Products Inc.

50. Cedar Island Forest Products Ltd.

51. Cedar Valley Holdings Ltd.

52. Cedarland Forest Products Ltd.

53. Cedarline Industries Ltd.

54. Central Cedar Ltd.

55. Central Forest Products Inc.

56. Centurion Lumber Ltd.

57. Chaleur Forest Products Inc.

58. Chaleur Forest Products LP

59. Channel-ex Trading Corporation

60. CHAP Alliance, Inc.

61. Chinook Wood Products Ltd.

62. Clair Industrial Development Corp. Ltd.

63. Clermond Hamel Ltee

64. CLG Enterprises Inc.

65. CNH Products Inc.

66. Columbia River Shake & Shingle Ltd./Teal Cedar Products Ltd., DBA the Teal Jones Group.

67. Commonwealth Plywood Co. Ltd.

68. Conifex Fibre Marketing Inc.

69. Cowichan Lumber Ltd.

70. CS Manufacturing Inc. (dba Cedarshed)

71. CWP—Industriel Inc.

72. CWP—Montreal Inc.

73. D & D Pallets Ltd.

74. Dakeryn Industries Ltd.

75. Decker Lake Forest Products Ltd.

76. Deep Cove Forest Products, Inc.

77. Delco Forest Products Ltd.

78. Delta Cedar Specialties Ltd.

79. Devon Lumber Co. Ltd.

80. DH Manufacturing Inc.

81. Direct Cedar Supplies Ltd.

82. Doubletree Forest Products Ltd.

83. Downie Timber Ltd.

84. Dunkley Lumber Ltd.

85. EACOM Timber Corporation

86. East Fraser Fiber Co. Ltd.

87. Edgewood Forest Products Inc.

88. ER Probyn Export Ltd.

89. Falcon Lumber Ltd.

90. Fontaine Inc.

91. Foothills Forest Products Inc.

92. Forest Products Mauricie LP; Societe en commandite Scierie Opitciwan; Resolute Growth Canada Inc.; Resolute FP Canada Inc.; Resolute-LP Engineered Wood Larouche Inc.; Resolute-LP Engineered Wood St-Prime Limited Partnership

93. Fort St. James Forest Products Limited Partnership

94. Fraser Specialty Products Ltd.

95. FraserWood Industries Ltd.

96. Furtado Forest Products Ltd.

97. Goldwood Industries Ltd.

98. Goodfellow Inc.

99. Gorman Bros. Lumber Ltd.

100. GreenFirst Forest Products (QC) Inc.

101. Greenwell Resources Inc.

102. Griff Building Supplies Ltd.

103. Groupe Crete Chertsey Inc.

104. Groupe Crete Division St-Faustin Inc.

105. Groupe Lebel Inc.

106. H.J. Crabbe & Sons Ltd.

107. Haida Forest Products Ltd.

108. Halo Sawmill, a division of Delta Cedar Specialties Ltd.; Halo Sawmill Manufacturing Limited Partnership

109. Hampton Tree Farms, LLC (dba Hampton Lumber Sales Canada)

110. Hornepayne Lumber LP

111. Hudson Mitchell & Sons Lumber Inc.

112. Independent Building Materials Distribution Inc.

113. Interfor Corporation; Interfor Sales & Marketing Ltd.

114. Intertran Holdings Ltd. (dba Richmond Terminal)

115. Island Cedar Products Ltd.

116. Ivor Forest Products Ltd.

117. J&G Log Works Ltd.

118. J.D. Irving, Limited

119. J.H. Huscroft Ltd.

120. Jan Woodlands (2001) Inc.

121. Jasco Forest Products Ltd.

122. Jazz Forest Products Ltd.

123. Jhajj Lumber Corporation

124. Kalesnikoff Lumber Co. Ltd.

125. Kan Wood Ltd.

126. Kebois Ltee; Kebois Ltd.

127. Kelfor Industries Ltd.

128. Kermode Forest Products Ltd.

129. Keystone Timber Ltd.

130. Kings Wood Products Linc.

131. Kirkland Lake Forest Products Inc.

132. La Crete Sawmills Ltd.

133. Lafontaine Lumber Inc.

134. Langevin Forest Products Inc.

135. Lecours Lumber Co. Limited

136. Leisure Lumber Ltd.

137. Les Bardeaux Lajoie Inc.

138. Les Bois d'oeuvre Beaudoin Gauthier Inc.

139. Les Bois Martek Lumber

140. Les Chantiers de Chibougamau Ltee; Les Chantiers de Chibougamau Ltd.

141. Les Industries P.F. Inc.

142. Les Produits Forestiers D&G Ltee; D&G Forest Products Ltd.

143. Les Produits Forestiers Sitka Inc. (aka Sitka Forest Products Inc.)

144. Leslie Forest Products Ltd.

145. Lignum Forest Products LLP

146. Linwood Homes Ltd.

147. Lonestar Lumber lnc.

148. Lulumco Inc.

149. Madera Forest Products INC

150. Magnum Forest Products Ltd.

151. Maibec Inc.

152. Mainland Sawmill, a division of Terminal Forest Products

153. Manitou Forest Products Ltd.

154. Marcel Lauzon Inc.

155. Marwood Ltd.

156. Materiaux Blanchet Inc.

157. Metrie Canada Ltd.

158. Mid Valley Lumber Specialties Ltd.

159. Midway Lumber Mills Ltd.

160. Mill & Timber Products Ltd.

161. Millar Western Forest Products Ltd.

162. Mirax Lumber Products Ltd.

163. Mobilier Rustique (Beauce) Inc.

164. Monterra Lumber Mills Limited

165. Morwood Forest Products Inc.

166. Multicedre Ltee

167. Murray Brothers Lumber Company Ltd.

168. Nakina Lumber Inc.

169. National Forest Products Ltd.

170. Nicholson and Cates Ltd.

171. Norsask Forest Products Inc.

172. Norsask Forest Products Limited Partnership

173. North American Forest Products Ltd. (located in Abbotsford, British Columbia)

174. North American Forest Products Ltd. (located in Saint-Quentin, New Brunswick)

175. North Enderby Timber Ltd.

176. Northland Forest Products Ltd.

177. Oakwood Manufacturing A Division of Weston Forest Products Inc.

178. Olympic Industries Inc.

179. Olympic Industries ULC

180. Oregon Canadian Forest Products; Oregon Canadian Forest Products Inc.

181. Pacific Coast Cedar Products Ltd.

182. Pacific Lumber Remanufacturing Inc.

183. Pacific NorthWest Lumber Ltd.

184. Pacific Western Wood Works Ltd.

185. PalletSource Inc.

186. Parallel Wood Products Ltd.

187. Partap Forest Products Ltd.

188. Peak Industries (Cranbrook) Ltd.

189. Phoenix Forest Products Inc.

190. Pine Ideas Ltd.

191. Plaster Rock Lumber Corporation

192. Pioneer Pallet & Lumber Ltd.

193. Porcupine Wood Products Ltd.

194. Power Wood Corp.

195. Precision Cedar Products Corp.

196. Produits Forestiers Petit Paris Inc.

197. Produits Matra Inc.

198. Promobois G.D.S. Inc.

199. R.A. Green Lumber Ltd.

200. RBC Timber Products

201. Rembos Inc.

202. Rene Bernard Inc.

203. Rielly Industrial Lumber Inc.

204. River City Remanufacturing Inc.

205. Riverside Forest Products Inc.

206. S&R Sawmills Ltd.

207. San Group

208. San Industries Ltd.

209. Sapphire Lumber Company

210. Sawarne Lumber Co. Ltd.

211. Scierie Alexandre Lemay & Fils Inc.

212. Scierie St-Michel Inc.

213. Scierie West Brome Inc.

214. Scott Lumber Sales; Scott Lumber Sales Ltd.

215. Sechoirs de Beauce Inc.

216. Shakertown Corp.

217. Sigurdson Forest Products Ltd.

218. Sinclar Group Forest Products Ltd.

219. Skana Forest Products Ltd.

220. Skeena Sawmills Ltd.

221. Star Lumber Canada Ltd.

222. South Beach Trading Inc.

223. Specialiste du Bardeau de Cedre Inc.; Specialiste du Bardeau de Cedre Inc. (SBC)

224. Spruceland Millworks Inc.

225. Sundher Timber Products Inc.

226. Surrey Cedar Ltd.

227. T.G. Wood Products

228. Taan Forest Limited Partnership (aka Taan Forest Products)

229. Taiga Building Products Ltd.

230. Tall Tree Lumber Company

231. Tenryu Canada Corporation

232. Terminal Forest Products Ltd.

233. The Wood Source Inc.

234. Tolko Industries Ltd.; Tolko Marketing and Sales Ltd.; Gilbert Smith Forest Products Ltd.

235. Top Quality Lumber Ltd.

236. Trans-Pacific Trading Ltd.

237. Triad Forest Products Ltd.

238. Twin Rivers Paper Co. Inc.

239. Tyee Timber Products Ltd.

240. Universal Lumber Sales Ltd.

241. Usine Sartigan Inc.

242. Vaagen Fibre Canada ULC

243. Vancouver Specialty Cedar Products Ltd.

244. Vancouver Urban Timberworks Ltd.; Van Urban

245. Vanderhoof Specialty Wood Products Ltd.

246. Vanderwell Contractors (1971) Ltd.

247. Visscher Lumber Inc.

248. W.I. Woodtone Industries Inc.

249. West Bay Forest Products Ltd.

250. Western Forest Products Inc.

251. Western Lumber Sales Limited

252. Western Timber Products, Inc.

253. Westminster Industries Ltd.

254. Weston Forest Products Inc.

255. Westrend Exteriors Inc

256. Weyerhaeuser Co.

257. White River Forest Products L.P.

258. Woodline Forest Products Ltd.

259. Woodtone Specialties Inc.

Appendix III

List of Companies Rescinded from the Review

1. AA Trading Ltd.

2. All American Forest Products Inc.

3. Bardobec Inc.

4. Best Quality Cedar Products Ltd.

5. Campbell River Shake & Shingle Co. Ltd.

6. Canada Pallet Corp.

7. Careau Bois Inc.

8. Carl Wood Lumber Ltd.

9. Cedarcoast Lumber Products

10. Central Alberta Pallet Supply

11. Coast Clear Wood Ltd.

12. Coast Mountain Cedar Products Ltd.

13. Comox Valley Shakes Ltd. (2019); Comox Valley Shakes (2019) Ltd.

14. Coulson Manufacturing Ltd.

15. Distribution Rioux Inc.

16. Elrod Cartage Ltd.

17. Galloway Lumber Company Ltd.

18. Glandell Enterprises Inc.

19. Goldband Shake & Shingle Ltd.

20. Greenwell Resources Inc.

21. Groupe Lignarex Inc.

22. Hy Mark Wood Products Inc.

23. Imperial Cedar Products Ltd.

24. Les Bois Traites M.G. Inc.

25. Modern Terminal Ltd.

26. Nagaard Sawmill Ltd.

27. Nickel Lake Lumber

28. NSC Lumber Ltd.

29. Pacific Pallet Ltd.

30. Partap Industries

31. Pat Power Forest Products Corporation

32. Portbec Forest Products Ltd.; Les Produits Forestiers Portbec Ltee

33. Rick Dubois

34. S&W Forest Products Ltd.

35. Silvaris Corporation

36. Smart Wood Forest Products Ltd.

37. Smartlam LLC

38. Sonora Logging Ltd.

39. Source Forest Products

40. South Coast Reman Ltd.; Southcoast Millwork Ltd.

41. South Fraser Container Terminals

42. Suncoast Industries Inc.

43. Suncoh Custom Lumber Ltd.

44. Surplus G Rioux

45. Swiftwood Forest Products Ltd.

46. T&P Trucking Ltd.

47. Temrex Forest Products LP; Produits Forestiers Temrex SEC.

48. Valley Cedar 2 Inc.

49. Waldun Forest Product Sales Ltd.

50. Watkins Sawmills Ltd.

51. West Coast Panel Cutters

52. Winton Homes Ltd.

53. WWW Timber Products Ltd.

[FR Doc. 2025-14298 Filed 7-28-25; 8:45 am]

BILLING CODE 3510-DS-P